DEPARTMENT OF LABOR

Mine Safety and Health Administration

Petitions for Modification of Application of Existing Mandatory Safety Standards

AGENCY: Mine Safety and Health Administration, Labor.

ACTION: Notice.

SUMMARY: This notice is a summary of three petitions for modification submitted to the Mine Safety and Health Administration (MSHA) by the party listed below.

DATES: All comments on the petitions must be received by MSHA's Office of Standards, Regulations, and Variances on or before September 16, 2021.

ADDRESSES: You may submit your comments including the docket number of the petition by any of the following methods:

1. Electronic Mail: zzMSHA-comments@dol.gov. Include the docket number of the petition in the subject line of the message.

2. Facsimile: 202-693-9441.

3. Regular Mail or Hand Delivery: Regular Mail or Hand Delivery: MSHA, Office of Standards, Regulations, and Variances, 201 12th Street South, Suite 4E401, Arlington, Virginia 22202-5452, Attention: Jessica D. Senk, Director, Office of Standards, Regulations, and Variances. Persons delivering documents are required to check in at the receptionist's desk in Suite 4E401. Individuals may inspect copies of the petition and comments during normal business hours at the address listed above. MSHA will consider only comments postmarked by the U.S. Postal Service or proof of delivery from another delivery service such as UPS or Federal Express on or before the deadline for comments.

FOR FURTHER INFORMATION CONTACT: Jessica D. Senk, Office of Standards, Regulations, and Variances at 202-693-9440 (voice), Senk.Jessica@dol.gov (email), or 202-693-9441 (facsimile). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petitions for Modification

Docket Number: M-2021-027-C.

Petitioner: Emery County Coal Resources, Inc., P.O. Box 910, East Carbon, Utah (ZIP 84520).

Mine: Lila Canyon Mine, MSHA ID No. 42-02241, located in Carbon County, Utah.

Regulation Affected: 30 CFR 75.507-1(a) (Electric equipment other than power-connection points; outby the last open crosscut; return air; permissibility requirements).

Modification Request: The petitioner requests a modification of the existing standard, 30 CFR 75.507-1(a), as it relates to the use of an alternative method of respirable dust protection for miners at the Lila Canyon Mine in Utah. Specifically, the petitioner is applying to use the battery-powered CleanSpace EX and 3M Versaflo TR-800 powered air purifying respirators (PAPRs) in return air outby the last open crosscut.

The petitioner states that:

(a) The 3M Airstream Mining Headgear-Mounted model PAPR provides a constant flow of filtered air which results in a reduction of the miners' exposure to respirable dust, thus reducing their health risks.

(b) With discontinuance of the MSHA-approved 3M Airstream Mining Headgear-Mounted model PAPR, there are no other MSHA-approved PAPRs available.

(c) The use of the CleanSpace EX and 3M Versaflo TR-800 PAPRs will provide miners in MMU 004-0 with a constant flow of filtered air which results in a reduction of the miners' exposure to respirable dust, thus reducing their health risks.

(d) The use of the CleanSpace EX and 3M Versaflo TR-800 PAPRs will protect miners from respirable dust when working in return air outby the last open crosscut performing maintenance such as, but not limited to, un-plugging dust lines, timbering, or maintaining pumps.

(e) The CleanSpace EX—full or half mask PAPR is intrinsically safe and is certified by UL under the ANSI/UL 60079-11 standard to be used in hazardous locations because it meets the intrinsic safety protection level. The unit is acceptable in other jurisdictions for use in mines with the potential for methane accumulation. The CleanSpace EX PAPR is an air filtering, fan assisted positive pressure mask which is used in different applications, including high dust environments. The CleanSpace EX PAPR is lightweight and compact and requires no hoses, cables, or belt-mounted battery packs. It requires few replacement parts and no servicing or maintenance. It is compatible with personal protective equipment.

(f) The 3M Versaflo TR-800 PAPR is intrinsically safe and is certified by UL under the ANSI/UL 60079-11 standard to be used in hazardous locations. This unit is acceptable in other jurisdictions for use in mines with the potential for methane accumulation. The 3M Versaflo TR-800 is ergonomically designed for greater movement in tight work spaces. It helps protect against certain airborne contaminates and has a multi-speed blower. The PAPR is easy to use and maintain and has audible and visual alarms. The 3M Versaflo TR-800 battery offers a long run time and charges quickly. The unit has interchangeable components which will enable the petitioner to customize the PAPR system to help meet the needs of their specific applications.

The petitioner proposes the following alternative method:

(a) The petitioner will use the CleanSpace EX and 3M Versaflo TR-800 PAPRs in return air outby the last open crosscut to protect miners from exposure to respirable dust.

(b) The batteries for the PAPRs will be charged outby the last open crosscut when not in operation.

(c) The 3M Versaflo TR-800 batteries will be charged by the 3M battery Charger TR-641N or the 3M 4-Station battery charger TR-644N.

(d) The 3M Versaflo TR-800 PAPR will only use the 3M TR-830 battery pack.

(e) Affected miners will be trained in the proper use and care of the PAPR units in accordance with manufacturers' instructions.

(f) The PAPRs will be checked for physical damage and the integrity of the case.

(g) If methane is detected in concentrations of 1.0 percent or more, procedures in accordance with 30 CFR 75.323 will be followed.

The petitioner asserts that the alternate method proposed will at all times guarantee no less than the same measure of protection afforded the miners under the mandatory standard.

Docket Number: M-2021-028-C.

Petitioner: Emery County Coal Resources, Inc., P.O. Box 910, East Carbon, Utah (ZIP 84520).

Mine: Lila Canyon Mine, MSHA ID No. 42-02241, located in Carbon County, Utah.

Regulation Affected: 30 CFR 75.1002(a) (Installation of electric equipment and conductors; permissibility).

Modification Request: The petitioner requests a modification of the existing standard, 30 CFR 75.1002(a), as it relates to the use of an alternative method of respirable dust protection for miners at the Lila Canyon mine in Utah. Specifically, the petitioner is applying to utilize the battery-powered CleanSpace EX and 3M Versaflo TR-800 PAPRs within 150 feet of pillar workings or the longwall face.

The petitioner states that:

(a) The 3M Airstream Mining Headgear-Mounted model PAPR provides a constant flow of filtered air which results in a reduction of the miners' exposure to respirable dust, thus reducing their health risks.

(b) With discontinuance of the MSHA-approved 3M Airstream Mining Headgear-Mounted model PAPR, there are no other MSHA-approved PAPRs available.

(c) The use of the CleanSpace EX and 3M Versaflo TR-800 PAPRs will provide miners in MMU 004-0 with constant flow of filtered air which results in a reduction of miners' exposure to respirable dust, thus reducing their health risks.

(d) The use of the CleanSpace EX and 3M Versaflo TR-800 PAPRs will protect miners from respirable dust when working within 150 feet of pillar workings, the longwall face, and the section faces.

(e) The CleanSpace EX—full or half mask PAPR is intrinsically safe and is certified by UL under the ANSI/UL 60079-11 standard to be used in hazardous locations because it meets the intrinsic safety protection level. The unit is acceptable in other jurisdictions for use in mines with the potential for methane accumulation. The CleanSpace EX PAPR is an air filtering, fan assisted positive pressure mask which is used in different applications, including high dust environments. The CleanSpace EX PAPR is lightweight and compact and requires no hoses, cables, or belt-mounted battery packs. It requires few replacement parts and no servicing or maintenance. It is compatible with personal protective equipment.

(f) The 3M Versaflo TR-800 PAPR is intrinsically safe and is certified by UL under the ANSI/UL 60079-11 standard to be used in hazardous locations. This unit is acceptable in other jurisdictions for use in mines with the potential for methane accumulation. The 3M Versaflo TR-800 is ergonomically designed for greater movement in tight work spaces. It helps protect against certain airborne contaminates and has a multi-speed blower. The PAPR is easy to use and maintain and has audible and visual alarms. The 3M Versaflo TR-800 battery offers a long run time and charges quickly. The unit has interchangeable components which will enable the petitioner to customize the PAPR system to help meet the needs of their specific applications.

The petitioner proposes the following alternative method:

(a) The petitioner will use the CleanSpace EX and 3M Versaflo TR-800 PAPRs to protect miners from exposure to respirable dust.

(b) The batteries for the PAPRs will be charged outby the last open crosscut when not in operation.

(c) The 3M Versaflo TR-800 batteries will be charged by the 3M battery Charger TR-641N or the 3M 4-Station battery charger TR-644N.

(d) The 3M Versaflo TR-800 PAPR will only use the 3M TR-830 battery pack.

(e) Affected miners will be trained in the proper use and care of the PAPR units in accordance with manufacturers' instructions.

(f) The PAPRs will be checked for physical damage and the integrity of the case.

(g) If methane is detected in concentrations of 1.0 percent or more, procedures in accordance with 30 CFR 75.323 will be followed.

The petitioner asserts that the alternate method proposed will at all times guarantee no less than the same measure of protection afforded the miners under the mandatory standard.

Docket Number: M-2021-029-C.

Petitioner: Emery County Coal Resources, Inc., P.O. Box 910, East Carbon, Utah (ZIP 84520).

Mine: Lila Canyon Mine, MSHA ID No. 42-02241, located in Carbon County, Utah.

Regulation Affected: 30 CFR 75.500(d) (Permissible electric equipment).

Modification Request: The petitioner requests a modification of the existing standard, 30 CFR 75.500(d), as it relates to the use of an alternative method of respirable dust protection at the Lila Canyon Mine in Utah. Specifically, the petitioner is applying to utilize the battery-powered CleanSpace EX and 3M Versaflo TR-800 PAPRs inby the last open crosscut.

The petitioner states that:

(a) The 3M Airstream Mining Headgear-Mounted model PAPR provides a constant flow of filtered air which results in a reduction of the miners' exposure to respirable dust, thus reducing their health risks.

(b) With discontinuance of the MSHA-approved 3M Airstream Mining Headgear-Mounted model PAPR, there are no other MSHA-approved PAPRs available.

(c) The use of the CleanSpace EX and 3M Versaflo TR-800 PAPRs will provide miners in MMU 004-0 with constant flow of filtered air which results in a reduction of miners' exposure to respirable dust, thus reducing their health risks.

(d) The use of the CleanSpace EX and 3M Versaflo TR-800 PAPRs will protect miners from respirable dust when working inby the last open crosscut.

(e) The CleanSpace EX—full or half mask PAPR is intrinsically safe and is certified by UL under the ANSI/UL 60079-11 standard to be used in hazardous locations because it meets the intrinsic safety protection level. The unit is acceptable in other jurisdictions for use in mines with the potential for methane accumulation. The CleanSpace EX PAPR is an air filtering, fan assisted positive pressure mask which is used in different applications, including high dust environments. The CleanSpace EX PAPR is lightweight and compact and requires no hoses, cables, or belt-mounted battery packs. It requires few replacement parts and no servicing or maintenance. It is compatible with personal protective equipment.

(f) The 3M Versaflo TR-800 PAPR is intrinsically safe and is certified by UL under the ANSI/UL 60079-11 standard to be used in hazardous locations. This unit is acceptable in other jurisdictions for use in mines with the potential for methane accumulation. The 3M Versaflo TR-800 is ergonomically designed for greater movement in tight work spaces. It helps protect against certain airborne contaminates and has a multi-speed blower. The PAPR is easy to use and maintain and has audible and visual alarms. The 3M Versaflo TR-800 battery offers a long run time and charges quickly. The unit has interchangeable components which will enable the petitioner to customize the PAPR system to help meet the needs of their specific applications.

The petitioner proposes the following alternative method:

(a) The petitioner will use the CleanSpace EX and 3M Versaflo TR-800 PAPRs to protect miners from exposure to respirable dust.

(b) The batteries for the PAPRs will be charged outby the last open crosscut when not in operation.

(c) The 3M Versaflo TR-800 batteries will be charged by the 3M battery Charger TR-641N or the 3M 4-Station battery charger TR-644N.

(d) The 3M Versaflo TR-800 PAPR will only use the 3M TR-830 battery pack.

(e) Affected miners will be trained in the proper use and care of the PAPR units in accordance with manufacturers' instructions.

(f) The PAPRs will be checked for physical damage and the integrity of the case.

(g) If methane is detected in concentrations of 1.0 percent or more, procedures in accordance with 30 CFR 75.323 will be followed.

The petitioner asserts that the alternate method proposed will at all times guarantee no less than the same measure of protection afforded the miners under the mandatory standard.

Jessica Senk,
Director, Office of Standards, Regulations, and Variances.

[FR Doc. 2021-17553 Filed 8-16-21; 8:45 am]

BILLING CODE 4520-43-P